DEPARTMENT OF HEALTH AND HUMAN SERVICES

Administration for Children and Families

Proposed Information Collection Activity; Comment Request; Proposed Projects

Title: Supporting Healthy Marriage Project Baseline Data Collection Extension.

OMB No.: 0970-0299.

Description: The Administration for Children and Families (ACF) is conducting an evaluation study titled Supporting Healthy Marriage (SHM). This is a large-scale, multi-site, rigorous test of marriage and relationship skills education programs for low-income married couples. The baseline information collection for the study was previously approved by the Office of Management and Budget (OMB Number 0970-0299) and expires on May 31, 2009. The purpose of this notice is to inform the public of ACF's intent to request an extension of this clearance prior to its expiration.

The SHM project is founded on research that indicates that both adults in healthy marriages and their children do better on a host of outcomes. The evaluation study will determine the interim and long-term effectiveness of eight local programs by comparing outcomes on a range of measures for couples and children in the program group to a comparable group of couples randomly assigned to a control group.

Baseline information is collected from couples at the time they volunteer to participate in a SHM program. The baseline data collection provides information about the characteristics of the husband and wife and information about their attitudes and beliefs about their relationship at study entry. This information will be used to inform the public, program operators and policymakers about the characteristics of married couples who volunteer for marriage education programs, and, among other uses, it will be used to define and conduct analyses of key sub groups, addressing a key study question of who benefits most from this type of marriage education service.

Respondents: Low-income married couples.

Annual Burden Estimates
Instrument | Annual number of respondents | Number of responses per respondent | Average burden hours per response (minutes) | Estimated annual burden hours
Eligibility Checklist | 3,126 | 1 | 5 | 261
Informed Consent Form | 3,126 | 1 | 10 | 521
Baseline Information Form | 3,126 | 1 | 9 | 469
Self-Administered Questionnaire | 3,126 | 1 | 11 | 573
Contact Information Sheet | 3,126 | 1 | 10 | 521

Estimated Annual Burden Hours: 2,345.

Additional Information: In compliance with the requirements of section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 26, 2008.
Brendan C. Kelly,
OPRE Reports Clearance Officer.

[FR Doc. E8-23203 Filed 10-2-08; 8:45 am]

BILLING CODE 4184-01-M